DEPARTMENT OF ENERGY

Federal Energy Regulatory Commission

[Docket No. EL00-83-000]

NSTAR Services Company, Complainant v. New England Power Pool Respondent; Notice of Filing

June 14, 2000.

Take notice that on June 13, 2000, NSTAR Services Company (NSTAR), tendered for filing a Complaint Requesting Fast Track Processing and Prayer for Emergency Relief.

NSTAR petitions the Commission for an order directing the New England Power Pool (NEPOOL) to amend its agreements and market rules to provide for a temporary $1,000/MWh bid cap in the energy and ancillary services markets operated by the Independent System Operator, New England, Inc., (ISO-NE). NSTAR further requests that the Commission direct NEPOOL to conduct studies analyzing the operation of the restructured market, and implement a structural screen that will mitigate market power. They request that both of these measures be implemented by April 1, 2001.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 23, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Answers to the complaint shall also be due on or before June 23, 2000.

Linwood A. Watson, Jr.,
Acting Secretary.

[FR Doc. 00-15478 Filed 6-19-00; 8:45 am]

BILLING CODE 6717-01-M